Proclamation 8593 of October 29, 2010

National Family Caregivers Month, 2010

By the President of the United States of America

A Proclamation

Every day, family members, friends, neighbors, and concerned individuals across America provide essential attention and assistance to their loved ones. Many individuals in need of care—including children, elders, and persons with disabilities—would have difficulty remaining safely in their homes and community without the support of their relatives and caregivers.

Caregivers often look after multiple generations of family members. Their efforts are vital to the quality of life of countless American seniors, bringing comfort and friendship to these treasured citizens. However, this labor of love can result in physical, psychological, and financial hardship for caregivers, and research suggests they often put their own health and well-being at risk while assisting loved ones. Through the National Family Caregiver Support Program, individuals can help their loved ones remain comfortably in the home and receive assistance with their caregiving responsibilities. This program provides information, assistance, counseling, training, support groups, and respite care for caregivers across our country.

My Administration’s Middle Class Task Force, led by Vice President Joe Biden, has made supporting family caregivers a priority, and we are working to assist caregivers as they juggle work, filial, and financial responsibilities. We made important progress with this year’s Affordable Care Act, and because of this landmark legislation, Americans will be able to take advantage of the Community Living Assistance Services and Supports (CLASS) Program. This voluntary insurance program will help individuals with long-term care needs to maintain independent living, as well as compensate family caregivers for their devoted work.

Our businesses and companies can also contribute to families’ ability to care for their loved ones in need. By offering flexible work arrangements and paid leave when caregiving duties require employees to miss work, employers can enable workers with caregiver responsibilities to balance work and family obligations more easily. Such efforts impact countless lives across our Nation, easing concerns and contributing to the well-being of individuals and families as they go about their daily lives.

During National Family Caregivers Month, we honor the millions of Americans who give endlessly of themselves to provide for the health and well-being of a beloved family member. Through their countless hours of service to their families and communities, they are a shining example of our Nation’s great capacity to care for each other.

NOW, THEREFORE, I, BARACK OBAMA, President of the United States of America, by virtue of the authority vested in me by the Constitution and the laws of the United States, do hereby proclaim November 2010 as National Family Caregivers Month. I encourage all Americans to pay tribute to those who provide care for their family members, friends, and neighbors in need.

IN WITNESS WHEREOF, I have hereunto set my hand this twenty-ninth day of October, in the year of our Lord two thousand ten, and of the Independence of the United States of America the two hundred and thirty-fifth.

[FR Doc. 2010-28078

Filed 11-3-10; 8:45 am]

Billing code 3195-W1-P